DEPARTMENT OF ENERGY

Federal Energy Regulatory Commission

[Docket No. ER01-3001-005, et al.]

New York Independent System Operator, Inc., et al.; Electric Rate and Corporate Filings

January 30, 2003.

The following filings have been made with the Commission. The filings are listed in ascending order within each docket classification.

1. New York Independent System Operator, Inc.

[Docket No. ER01-3001-005]

Take notice that on January 29, 2003, the New York Independent System Operator, Inc. (NYISO) filed revisions to its Open Access Transmission Tariff and its Market Administration and Control Area Services Tariff pertaining to temporary extraordinary procedures, pursuant to the Commission's Order issued on July 19, 2002, in the above-captioned proceeding. The NYISO has requested that the proposed revisions be made effective as of November 1, 2001.

The NYISO has served a copy of this filing upon parties on the official service list maintained by the Commission for the above-captioned proceeding. The NYISO has also served this filing upon all parties that have executed service agreements under the NYISO's Open Access Transmission Tariff or the Market Administration and Control Area Services Tariff and upon the New York State Public Service Commission.

Comment Date: February 19, 2003.

2. Oklahoma Gas and Electric Company

[Docket No. ER02-1420-003, ER02-1420-004, ER02-1402-006]

Take notice that on January 15, 2003, Oklahoma Gas and Electric Company (Company) filed a status report regarding its plans to participate in the regional transmission organization (RTO) to be formed by the proposed merger of the Midwest Independent Transmission System Operator, Inc., (Midwest ISO) and the Southwest Power Pool, Inc., (SPP), to comply with the Federal Energy Regulatory Commission's December 19, 2002, Order in the above-captioned proceeding.

The Company states that a copy of the filing has been served on all parties to this proceeding, and on the Arkansas Public Service Commission and the Oklahoma Corporation Commission.

Comment Date: February 10, 2003.

3. Westar Energy, Inc.

[Docket No. ER02-1420-003, ER02-1420-004, ER02-1420-006]

Take notice that on January 16, 2003, Westar Energy, Inc., and its wholly owned subsidiary, Kansas Gas and Electric Company (collectively referred to as Westar Energy) filed a status report regarding its plans to participate in the regional transmission organization (RT)) to be formed by the proposed merger of the Midwest Independent Transmission System Operator, Inc., (Midwest ISO) and the Southwest Power Pool, Inc., (SPP), to comply with the Federal Energy Regulatory Commission's December 19, 2002, Order in the above-captioned proceeding.

Westar Energy states that a copy of the filing has been served on all parties to the proceeding.

Comment Date: February 11, 2003.

4. Cleco Power LLC

[Docket No. ER03-450-000]

Take notice that on October 29, 2002, Cleco Power, LLC, tendered for filing Third Revised Sheet Nos. 77 and 78, an Attachment E, from Cleco Power's open access transmission tariff, titled “Index of Point-to-Point Transmission Service Customers”, to include Reliant Energy Services, Inc., as a short-term firm and non-firm transmission customer. Cleco Power will provide short-term firm point-to-point transmission service and non-firm point-to-point transmission service to Reliant Energy Services, Inc., under its Open Access Transmission Tariff.

Comment Date: February 18, 2003.

5. Allegheny Power System, Inc.

[Docket No. ER03-453-000]

Take notice that on January 28, 2003, Allegheny Power System, Inc., on behalf of certain of its operating companies, filed a notice of termination of Schedule 9 under the Interconnection Facilities Agreement among Pennsylvania Electric Company and Metropolitan Edison Company, subsidiaries of General Public Utilities Energy, Inc. (now FirstEnergy Corporation) and West Penn Power Company and The Potomac Edison Company, operating companies of the Allegheny Power.

Comment Date: February 18, 2003.

6. Southern Company Services, Inc.

[Docket No. ER03-454-000]

Take notice that on January 29, 2003, Southern Company Services, Inc. (SCS), acting on behalf of Alabama Power Company, Georgia Power Company, Gulf Power Company, Mississippi Power Company, and Savannah Electric and Power Company (collectively Southern Companies), filed three rollover transmission service agreements under the Open Access Transmission Tariff of Southern Companies (FERC Electric Tariff, Fourth Revised Volume No. 5) (Tariff). Specifically, these agreements are for firm point-to-point transmission service for rollover service with Carolina Power & Light Company (First Revised Service Agreement No. 444), Calpine Energy Services, LP (First Revised Service Agreement No. 441), and Duke Energy Corporation (First Revised Service Agreement No. 446).

Comment Date: February 19, 2003.

7. Duke Energy Corporation

[Docket No. ER03-455-000]

Take notice that on January 29, 2003, Duke Energy Corporation filed an amendment to Appendix B to its contract with the Southeastern Power Administration.

Comment Date: February 19, 2003.

8. Westar Energy, Inc.

[Docket No. OA03-2-000]

Take notice that on January 27, 2003, Westar Energy, Inc. (Westar), filed with the Federal Energy Regulatory Commission (Commission), pursuant to section 37.4 of the Commission's regulations, proposed revisions to its standards of conduct on file with the Commission as required by Order 889, Open Access Same-time Information Systems (Formerly Real-time Information Network) and Standards of Conduct, FERC Stats. & Regs. (Regulations Preambles 1991-1996) ¶ 31,035 (1996), Order 889-A, III FERC Stats. & Regs. (Regulations Preambles) ¶ 31,049, Order 889-B, 81 FERC ¶ 61,253 (1997).

Comment Date: February 26, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2878 Filed 2-5-03; 8:45 am]

BILLING CODE 6717-01-P